DEPARTMENT OF HOMELAND SECURITY

Coast Guard

33 CFR Part 165

[Docket Number USCG-2025-0667]

RIN 1625-AA00

Fixed and Moving Safety Zone, Vicinity of the M/V ZHEN HUA 29; Freeport Ship Channel, Freeport, TX

AGENCY: Coast Guard, DHS.

ACTION: Temporary final rule.

SUMMARY: The Coast Guard is establishing two temporary safety zones, a moving safety zone and a fixed safety zone, around the M/V ZHEN HUA 29 in the navigable waters of the Freeport Ship Channel and its vicinity. The temporary safety zones are necessary to protect persons, property, and the marine environment from potential hazards associated with the transit and delivery of large gantry cranes. People and vessels are prohibited from entering, transiting through, anchoring in, or remaining within the safety zones unless specifically authorized by the Captain of the Port (COTP) Houston-Galveston or a designated representative.

DATES: This rule is effective from 5 a.m. on September 15, 2025, through 5 p.m. on October 31, 2025.

ADDRESSES: To view documents mentioned in this preamble as being available in the docket, go to https://www.regulations.gov, type USCG-2025-0667 in the search box and click “Search.” Next, in the Document Type column, select “Supporting & Related Material.”

FOR FURTHER INFORMATION CONTACT: If you have questions about this proposed rulemaking, call or email Lieutenant Ignacio J. Fernández-Cuervo, Marine Safety Unit Texas City, Waterways Management Division, U.S. Coast Guard; telephone (281) 309-1617, email MSUTexasCityWaterways@uscg.mil.

SUPPLEMENTARY INFORMATION:

I. Table of Abbreviations

COTP Captain of the Port

CFR Code of Federal Regulations

DHS Department of Homeland Security

FR Federal Register

NPRM Notice of proposed rulemaking

§ Section

U.S.C. United States Code

II. Background Information and Regulatory History

The Coast Guard is issuing this temporary rule under the authority in 5 U.S.C. 553(b)(B). This statutory provision authorizes an agency to issue a rule without prior notice and opportunity to comment when the agency for good cause finds that those procedures are “impracticable, unnecessary, or contrary to the public interest.” The Coast Guard finds that good cause exists for not publishing a notice of proposed rulemaking (NPRM) with respect to this rule because it is impracticable and contrary to the public interest. The gantry cranes will be delivered from the M/V ZHEN HUA 29, an approximately 800' long cargo ship. The vessel's size, and the size of the gantry cranes, presents a risk to vessels transiting in the Freeport Ship Channel. It is impracticable to publish an NPRM and receive and consider public comments because prompt action is needed to address potential safety hazards associated with the transit and delivery of the gantry cranes, which may begin as early as September 15, 2025.

Also, under 5 U.S.C. 553(d)(3), the Coast Guard finds that good cause exists for making this rule effective less than 30 days after publication in the Federal Register. Delaying the effective date of this rule would be contrary to the public interest because prompt action is needed to respond to the potential safety hazards associated with the transfer of gantry cranes beginning on September 15, 2025.

III. Legal Authority and Need for Rule

The Coast Guard is issuing this rule under authority in 46 U.S.C. 70034. The COTP Houston-Galveston has determined that potential hazards associated with the transfer of gantry cranes starting September 15, 2025, will be a safety concern for anyone within a 100-yard radius while the M/V ZHEN HUA 29 is in inbound and outbound in the Freeport Ship Channel, and for anyone within 25-yard radius while the M/V ZHEN HUA 29 is moored in Port Freeport. This rule is needed to protect people, property, and the marine environment within the navigable waters of the safety zones while the M/V ZHEN HUA 29 transits to and conducts unloading operations in Freeport, Texas.

IV. Discussion of the Rule

This rule establishes two temporary safety zones from 5 a.m. on September 15, 2025, through 5 p.m. on October 31, 2025. The temporary safety zones include a moving safety zone and a fixed safety zone. The moving safety zone will only be enforced when the vessel is transiting. The fixed safety zone will only be enforced when the vessel is moored at Port Freeport. This moving safety zone includes all waters within 100 yards of the M/V ZHEN HUA 29 as the vessel transits inbound and outbound in the Freeport Ship Channel. During the inbound transit, the safety zone will begin at approximate position 28°52.483′ N, 95°14.017′ W, located in the Gulf of America, and will end when the ship is moored in Port Freeport. During the outbound transit, the safety zone will begin when the ship gets underway from Port Freeport and will end when the ship reaches the same position in the Gulf of Mexico, 28°52.483′ N, 95°14.017′ W. The fixed safety zone includes all waters within 25 yards of the M/V ZHEN HUA 29 once M/V ZHEN HUA 29 is moored at Port Freeport in Freeport, Texas, located at approximate position 28°56.567′ N, 95°19.817′ W.The duration of the zones is intended to ensure the safety of the public and navigable waters in the specified areas during the transit of the gantry cranes in the Freeport Ship Channel and while the vessel is moored and unloading. No vessel or person will be permitted to enter, transit through, anchor in, or remain within the safety zones without obtaining permission from the COTP or a designated representative.

V. Regulatory Analyses

We developed this rule after considering numerous statutes and Executive orders related to rulemaking. Below we summarize our analyses based on a number of these statutes and Executive orders.

A. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule will not have a significant economic impact on a substantial number of small entities for the following reasons. Although the rule prohibits people and vessels from entering, transiting through, anchoring in, or remaining within the regulated area, vessels may safely navigate around the safety zone, and may transit through it with the permission of the COTP or a designated representative. The Coast Guard will provide advance notification of the safety zones to the local maritime community by Local Notice to Mariners and/or Broadcast Notice to Mariners, and the rule would allow vessels to seek permission to enter the zones.

Under section 213(a) of the Small Business Regulatory Enforcement Fairness Act of 1996 (Pub. L. 104-121), we want to assist small entities in understanding this rule. If the rule will affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

B. Collection of Information

This rule will not call for a new collection of information under the Paperwork Reduction Act of 1995 (44 U.S.C. 3501-3520).

C. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

D. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

E. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule involves safety zones that will prohibit people and vessels from entering, transiting through, anchoring in, or remaining within the area around a vessel delivering gantry cranes in the Freeport Ship Channel. It is categorically excluded from further review under paragraph L60(a) of Appendix A, Table 1 of DHS Instruction Manual 023-01-001-01, Rev. 1. A Record of Environmental Consideration supporting this determination is available in the docket. For instructions on locating the docket, see the ADDRESSES section of this preamble.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.4.

2. Add § 165.T08-0667 to read as follows:

§ 165.T08-0667 Fixed and Moving Safety Zones; Vicinity of the M/V ZHEN HUA 29, Freeport Ship Channel and Freeport, TX

(a) Location. The following areas are safety zones:

(1) Moving Safety Zone: This area includes all waters within 100 yards of the M/V ZHEN HUA 29 as the vessel transits inbound and outbound through the Freeport Ship Channel. During the inbound transit, the safety zone will begin when the ship reaches approximate position 28°52.483′ N, 95°14.017′ W, located in the Gulf of America off the coast of Freeport, Texas, and will end when the ship is moored at Port Freeport. During the outbound transit, the safety zone will begin when the ship gets underway from Port Freeport and will end when the ship reaches approximate position 28°52.483′ N, 95°14.017′ W, located in the Gulf of America off the coast of Freeport, Texas.

(2) Fixed Safety Zone: This area includes all waters within 25 yards of the M/V ZHEN HUA 29 during the time the M/V ZHEN HUA 29 is moored at Port Freeport in Freeport, Texas, located at 28°56.567′ N 95°19.817′ W.

(b) Definition. The term “designated representative” means Coast Guard Patrol Commanders, including Coast Guard coxswains, petty officers, and other officers operating Coast Guard vessels, and Federal, State, and local officers designated by or assisting the COTP Houston-Galveston in the enforcement of the regulated areas.

(c) Regulations. (1) Under the general safety zone regulations in subpart C of this part, you may not enter the safety zone described in paragraph (a) of this section unless authorized by the COTP or the COTP's designated representative.

(2) To seek permission to enter, contact the COTP or the COTP's representative by telephone at 866-539-8114, or the COTP's designated representative via VHF radio on channel 16. Those in the safety zone must comply with all lawful orders or directions given to them by the COTP or the COTP's designated representative.

(d) Enforcement Period. This section will be subject to enforcement from 5 a.m. on September 15, 2025, through 5 p.m. on October 31, 2025. The moving safety zone will only be enforced when the vessel is transiting. The fixed safety zone will only be enforced when the vessel is moored at Port Freeport.

Dated: August 25, 2025.
Nicole D. Rodriguez,
Captain, U.S. Coast Guard, Captain of the Port Houston-Galveston.

[FR Doc. 2025-16617 Filed 8-28-25; 8:45 am]

BILLING CODE 9110-04-P